DEPARTMENT OF HOUSING AND URBAN DEVELOPMENT

[Docket No. FR-4837-D-60]

Redelegations of Authority to Directors and Deputy Directors of Community Planning and Development in Field Offices

AGENCY: Office of the Assistant Secretary for Community Planning and Development, HUD.

ACTION: Notice of redelegation of authority to field offices.

SUMMARY: In this notice, the Assistant Secretary of Community Planning and Development redelegates to the Directors and Deputy Directors of Community Planning and Development in HUD Field Offices all powers and authorities necessary to carry out Office of Community Planning and Development programs, except those powers and authorities specifically excluded.

EFFECTIVE DATES: March 27, 2006.

FOR FURTHER INFORMATION CONTACT: Karen Daly, Director of Policy Development and Coordination, Office of Community Planning and Development, Department of Housing and Urban Development, 451 Seventh Street, SW., Room 7240, Washington, DC 20410-7000; (202) 708-1817. This is not a toll-free number. For those needing assistance, this number may be accessed via TTY by Calling the Federal Information Relay Service at 800 877-8339.

SUPPLEMENTARY INFORMATION: On April 15, 1994 (59 FR 18280), the Assistant Secretary for Community Planning and Development (CPD) previously redelegated to Directors and Deputy Directors of CPD in HUD Field Offices all powers and authorities necessary to carry out CPD programs, except those powers specifically excluded. A notice published on May 11, 1994 (59 FR 24451), corrected the effective date of the 1994 redelegations. A notice on published June 8, 1995 (60 FR 30312), further amended the 1994 redelegations.

On September 16, 2003 (68 FR 54238), the Secretary issued a Consolidated Delegation of Authority for CPD programs to the Assistant Secretary and the General Deputy Assistant Secretary for Community Planning and Development. This notice updates and revises redelegations of authority to Directors and Deputy Directors of CPD in HUD Field Offices. Accordingly, the Assistant Secretary redelegates as follows:

Section A. General Redelegation of Authority

1. Except as provided in Section C, the Assistant Secretary redelegates to the Directors and Deputy Directors of Community Planning and Development in HUD Field Offices all powers and authorities of the Assistant Secretary necessary to carry out the following Community Planning and Development programs and matters, except those authorities specifically excluded:

1. Community Development Block Grants, Loan Guarantees and other programs covered by Title I of the Housing and Community Development Act of 1974, as amended, 42 U.S.C. 5301 et seq.

Authority not redelegated:

• Terminate, reduce or limit the availability of grant payments pursuant to section 111(a), 42 U.S.C. 5311.

• Adjust entitlement and state grants pursuant to section 104(e), 42 U.S.C.

5304.

• Determine basic grant amounts for metropolitan cities, urban counties, and States pursuant to section 106, 42 U.S.C. 5306.

• Reallocate funds pursuant to section 106(c) or (d), 42 U.S.C. 5306.

• Determine the qualifications of localities for special consideration. This includes, but is not limited to, the determination of qualifications of counties as urban counties pursuant to section 102(a)(6), 42 U.S.C. 5302, the determination of what constitutes a city pursuant to section 102(a)(5), 42 U.S.C. 5302, and the determination of levels of physical and economic distress of cities and urban counties for eligibility for urban development action grants pursuant to section 119(b), 42 U.S.C. 5318.

Approve and disapprove applications, or amendments to applications, filed for loan guarantee or grant assistance, issue commitments or grant awards, execute grant agreements, or issue guarantees pursuant to section 108, 42 U.S.C. 5308.

2. Consolidated plans, 24 CFR part 91 (including Comprehensive Housing Affordability Strategies based on title I of the Cranston-Gonzalez National Affordable Housing Act, as amended, 42 U.S.C. 12701 et seq.) and submission and reporting requirements for the programs listed in paragraphs 1, 3, 4, and 6.

Authority not redelegated:

Effect remedies for noncompliance pursuant to section 108 of NAHA

3. Emergency Shelter Grants Program, title IV, subtitle B of the McKinney-Vento

Homeless Assistance Act, as amended, 42 U.S.C. 11371 et seq.

Authority not redelegated:

• Determine allocation amounts.

4. HOME Investment Partnerships, title II of the Cranston-Gonzalez National Affordable Housing Act (NAHA), as amended, 42 U.S.C. 12721 et seq.

Authority not redelegated:

• Determine allocation and reallocation amounts pursuant to section 217 of NAHA.

• Revoke a jurisdiction's designation as a participating jurisdiction pursuant to section 216 of NAHA.

• Effect remedies for noncompliance pursuant to section 223 of NAHA.

5. HOPE for Homeownership of Single Family Homes (HOPE 3), title IV, subtitle C of the Cranston-Gonzalez National Affordable Housing Act, as amended, 42 U.S.C. 12891.

6. Housing Opportunities for Persons With AIDS, the AIDS Housing Opportunity Act, title VII, subtitle D of the Cranston-Gonzalez National Affordable Housing Act, as amended, 42 U.S.C. 12901 et seq.

Authority not redelegated:

• Determine allocations, adjustments and reallocation amounts.

• Revoke a jurisdiction's designation as an eligible state or eligible metropolitan statistical area for a formula allocation or as an eligible applicant for a nonformula allocation.

• Effect remedies for noncompliance, such as termination, reduction or limitations on availability of grant payments, under 24 CFR 574.500(c).

7. Supportive Housing, Section 8 Moderate Rehabilitation Single Room Occupancy (SRO), and Shelter Plus Care Programs, title IV, subtitles C, D, E and F of the McKinney-Vento Homeless Assistance Act, as amended, 42 U.S.C. 11301 et seq.

Authority not redelegated:

• Make funding decisions.

8. Economic Development Initiative grants, as specified in annual HUD appropriations acts, e.g., Consolidated Appropriations Resolution, 2003, Pub. L. 108-7, 117 Stat. 11 (Feb. 20, 2003).

9. Neighborhood Initiatives grants, as specified in annual HUD appropriations acts, e.g., Consolidated Appropriations Resolution, 2003, Pub. L. 108-7, 117 Stat. 11 (Feb. 20, 2003).

10. The Rural Housing and Economic Development program, as provided for originally in the Fiscal Year 1998 HUD/VA Appropriations Act, Pub. L. 105-65, 111 Stat. 1344 (Oct. 27, 1997), and subsequent annual HUD appropriations acts.

11. The Uniform Relocation Assistance and Real Property Acquisitions Policies Act of 1970 et seq., as amended, 42 U.S.C. 4601 et seq.

12. Youthbuild Program, title IV, subtitle D of the Cranston-Gonzalez National Affordable Housing Act, as amended, 42 U.S.C. 12899 et seq.

13. The Renewal Communities, urban Empowerment Zones and urban Enterprise Communities (RC/EZ/EC) Initiative as authorized under title 26, subtitle A, chapter 1, subchapter U of the Internal Revenue Code, as amended, 26 U.S.C. 1391 et seq. with respect to urban Empowerment Zones and urban Enterprise Communities and title 26, subtitle A, chapter 1, subchapter X of the Internal Revenue Code, as amended, 26 U.S.C. 1400E et seq. with respect to Renewal Communities; and grants for urban Empowerment Zones as provided for in annual HUD appropriations acts (e.g., Consolidated Appropriations Resolution, Fiscal Year 2003, Pub. L. 108-7, 117 Stat. 11, approved February 20, 2003).

Authority not redelegated:

• Approve or amend strategic plans or other state and local commitments, including boundary changes.

• Revoke a designation, including issuing a warning letter pursuant to 24 CFR parts 597, 598, and 599.

14. District of Columbia Enterprise Zone, title 26, subtitle A, chapter 1, subchapter W of the Internal Revenue Code, 26 U.S.C. 1400 et seq., as amended.

Authority not redelegated:

• Approve or amend strategic plans or other state and local commitments, including boundary changes.

15. Technical Assistance Awards as authorized under Section 107(b)(4) of the Housing and Community Development Act of 1974, 42 U.S.C. 5307; Sections 233 and 242 of the Cranston-Gonzalez National Affordable Housing Act, 42 U.S.C. 12773 and 12781-83; Section 423 of the Stuart B. McKinney Homeless Assistance Act, 42 U.S.C. 11383 et seq.; Title IV of the Cranston-Gonzalez National Affordable Housing Act, as amended by the Housing and Community Development Act of 1992, 42 U.S.C. 12899 et seq.; and as provided for in annual HUD appropriations acts, e.g., Consolidated Appropriations Resolution, Fiscal Year 2003, Pub. L. 108-7, 117 Stat. 11, approved February 20, 2003.

Section B. Limited Denial of Participation

Subject to the excepted authority in Section C (4), the Assistant Secretary redelegates to Directors and Deputy Directors of CPD in HUD Field Offices the authority to order a limited denial of participation sanction pursuant to HUD regulations at 24 CFR 24, subpart J with respect to the programs and matters listed in Section A; provided that the General Counsel, or such other official as may be designated by the General Counsel, must: (1) Concur in any proposed sanction under part 24 before it is issued, and (2) concur in any proposed settlement of a sanction under part 24.

Section C. General Authority Excepted

The authority redelegated under Section A does not include:

(1) The authority to issue or waive regulations;

(2) The authority to sue and be sued;

(3) The authority to effect remedies for noncompliance requiring notice and an opportunity for an administrative hearing; or

(4) Any authority not delegated to the Assistant Secretary for CPD under the Consolidated Delegation of Authority for Community Planning and Development (September 16, 2003, 68 FR 54238).

Section D. Authority to Further Redelegate

The authority redelegated in Sections A and B may not be further redelegated.

Section E. Redelegations Superseded

All previous redelegated authorities to Directors and Deputy Directors of Community Planning and Development in HUD Field Offices that are inconsistent with this Redelegation of Authority are hereby superseded, or superseded in part, including, but not limited to, the following:

(1) Redelegation of Authority from the Assistant Secretary for Community Planning and Development to the Field Offices, 59 FR 18280 (April 15, 1994), as amended by Paragraph 6, Delegation and Redelegation of Authority; Correction, 59 FR 24451 (May 11, 1994).

(2) Amendments to the Redelegation of Authority from the Assistant Secretary for Community Planning and Development to the Field Offices, 60 FR 30312 (June 8, 1995).

Section F. Continuation in Effect of Other Redelegations

Other redelegations of authority by the Assistant Secretary for Community Planning and Development, including his or her predecessors, with respect to any of the programs covered by this Redelegation of Authority which (1) are in effect as of the effective date of this document and (2) are consistent with this Redelegation of Authority are continued in effect unless and until expressly modified or revoked by a delegation or redelegation of authority issued hereafter.

Section G. Actions Ratified

The Assistant Secretary hereby ratifies all actions previously taken by the Directors and Deputy Directors of CPD in HUD Field Offices, from September 9, 2003, through the effective date of this document by the Secretary, with respect to the programs and matters listed in Section A and orders of limited denial of participation issued in accordance with Section B.

Authority: Section 7(d), Department of Housing and Urban Development Act, 42 U.S.C. 3535(d).

Dated: March 27, 2006.
Pamela H. Patenaude,
Assistant Secretary for Community Planning and Development.

[FR Doc. E6-6247 Filed 4-25-06; 8:45 am]

BILLING CODE 4210-67-P